DEPARTMENT OF HEALTH AND HUMAN SERVICES

Health Resources and Services Administration

List of Petitions Received; National Vaccine Injury Compensation Program

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2022, through September 30, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Tamia Lindgren, Gainesville, Florida, Court of Federal Claims No: 22-1174V

2. Fillistine Harvey on behalf of N. L., Oswego, Illinois, Court of Federal Claims No: 22-1184V

3. Tahira Robinson on behalf of K. S. Phoenix, Arizona, Court of Federal Claims No: 22-1194V

4. Chantal Banks, Shady Side, Maryland, Court of Federal Claims No: 22-1206V

5. Jerry Melvin and Deborah Melvin on behalf of L. M., Delaware, Ohio, Court of Federal Claims No: 22-1207V

6. Chris Creevy, Payson, Arizona, Court of Federal Claims No: 22-1208V

7. Jayne Melis on behalf of T. M. Chicago, Illinois, Court of Federal Claims No: 22-1209V

8. Mary Trepanier, Boston, Massachusetts, Court of Federal Claims No: 22-1210V

9. Audrey Riggs, Phoenix, Arizona, Court of Federal Claims No: 22-1211V

10. Pamela Carnes, Lafayette, Georgia, Court of Federal Claims No: 22-1213V

11. Dalia McCarter and Jeffrey McCarter on behalf of A. M. Port Jefferson, New York, Court of Federal Claims No: 22-1214V

12. Zi Jue Xu and Chun Gang Li on behalf of W. L. New York, New York, Court of Federal Claims No: 22-1216V

13. Jennifer Bechtel on behalf of K. B. Phoenix, Arizona, Court of Federal Claims No: 22-1217V

14. Halim Husain, Phoenix, Arizona, Court of Federal Claims No: 22-1218V

15. Dianne Laborde, Pineville, Louisiana, Court of Federal Claims No: 22-1219V

16. Scott Breault on behalf of A. B. Ocoee, Florida, Court of Federal Claims No: 22-1220V

17. Sharon Tibbitts, Jamestown, New York, Court of Federal Claims No: 22-1223V

18. Linda Rodgers, Woodbridge, Illinois, Court of Federal Claims No: 22-1224V

19. Leslie Martinez, Phoenix, Arkansas, Court of Federal Claims No: 22-1249V

20. Kenneth Begun, Jacksonville, North Carolina, Court of Federal Claims No: 22-1250V

21. Wendy Dougherty, Bridgeport, Texas, Court of Federal Claims No: 22-1252V

22. Melissa Cato, Montgomery, Alabama, Court of Federal Claims No: 22-1253V

23. Stephanie E. Sitton, Raleigh, North Carolina, Court of Federal Claims No: 22-1254V

24. Jaqueline Crouse, Oklahoma City, Oklahoma, Court of Federal Claims No: 22-1256V

25. L. O. Brookline, Massachusetts, Court of Federal Claims No: 22-1257V

26. Ruby Sharma-Dhital, Hartford, Connecticut, Court of Federal Claims No: 22-1258V

27. Dennis Eckert, Washington, District of Columbia, Court of Federal Claims No: 22-1259V

28. Mary Hay, St. Louis, Missouri, Court of Federal Claims No: 22-1260V

29. Greg Yurkow on behalf of A. Y. Flowood, Mississippi, Court of Federal Claims No: 22-1261V

30. Willem Plunkett, Bend, Oregon, Court of Federal Claims No: 22-1262V

31. David M. Coduto, San Carlos, California, Court of Federal Claims No: 22-1264V

32. Julie Wiest on behalf of J. W. Phoenix, Arizona, Court of Federal Claims No: 22-1265V

33. Allison L. Tassie, Louisville, Kentucky, Court of Federal Claims No: 22-1266V

34. Larry Duncan, Mitchell, Indiana, Court of Federal Claims No: 22-1267V

35. Alan Correira, Clearwater, Florida, Court of Federal Claims No: 22-1269V

36. William Parkinson, Aventura, Florida, Court of Federal Claims No: 22-1270V

37. Abigail Walters, Phoenix, Arizona, Court of Federal Claims No: 22-1272V

38. Adrian Montano, Phoenix, Arizona, Court of Federal Claims No: 22-1273V

39. Donna Stonesifer, Baltimore, Maryland, Court of Federal Claims No: 22-1275V

40. Brittany Flores, Greensboro, North Carolina, Court of Federal Claims No: 22-1276V

41. Megi Kola, Worcester, Massachusetts, Court of Federal Claims No: 22-1277V

42. Boyce Dean Spradlin, Somerset, Kentucky, Court of Federal Claims No: 22-1278V

43. Baleigh G. Scheibner, Raleigh, North Carolina, Court of Federal Claims No: 22-1279V

44. Amber Jones, Columbus, Georgia, Court of Federal Claims No: 22-1281V

45. Belinda Yanchik on behalf of the Estate of Betty Mae Spencer, Deceased, Kingston, Pennsylvania, Court of Federal Claims No: 22-1282V

46. Jessica Hampton, Scottsdale, Arizona, Court of Federal Claims No: 22-1283V

47. Saleem Baig, San Mateo, California, Court of Federal Claims No: 22-1285V

48. Claire Anne Weis, Virginia Beach, Virginia, Court of Federal Claims No: 22-1286V

49. Tricia Denzik, Columbia, Kentucky, Court of Federal Claims No: 22-1287V

50. Colleen McGrath, Albany, New York, Court of Federal Claims No: 22-1288V

51. Barbara Beckmann, Raleigh, North Carolina, Court of Federal Claims No: 22-1289V

52. Keith A. Larson, Carrington, North Carolina, Court of Federal Claims No: 22-1290V

53. Jama Dilbeck, Enid, Oklahoma, Court of Federal Claims No: 22-1291V

54. Ali Hay, Maryville, Illinois, Court of Federal Claims No: 22-1293V

55. Heather Rafle and Philip Rafle on behalf of S. R. Phoenix, Arizona, Court of Federal Claims No: 22-1294V

56. Cynthia Stocker, Hailey, Idaho, Court of Federal Claims No: 22-1295V

57. Donna J. Caldwell, Dover, Ohio, Court of Federal Claims No: 22-1296V

58. Amy Bigelow, Bloomington, Indiana, Court of Federal Claims No: 22-1297V

59. Gary Williams, Rancho Santa Margarita, California, Court of Federal Claims No: 22-1300V

60. Lori Hewett, Shallotte, North Carolina, Court of Federal Claims No: 22-1301V

61. Tammy Ross, Boca Raton, Florida, Court of Federal Claims No: 22-1302V

62. Carrie Stewart, Circleville, Ohio, Court of Federal Claims No: 22-1303V

63. Lisa Ostellino, Lenox, Massachusetts, Court of Federal Claims No: 22-1304V

64. Alyssa Tani, Philadelphia, Pennsylvania, Court of Federal Claims No: 22-1305V

65. David Yanovsky, Brick, New Jersey, Court of Federal Claims No: 22-1306V

66. Charolette Iverson, Phoenix, Arizona, Court of Federal Claims No: 22-1307V

67. Ronald Brown, Irwin, Pennsylvania, Court of Federal Claims No: 22-1308V

68. Mammie L. Young, Paris, Texas, Court of Federal Claims No: 22-1309V

69. Brooke Rivera on behalf of A. E. C. Clearwater, Florida, Court of Federal Claims No: 22-1310V

70. Mary Morgan, Pembroke Pines, Florida, Court of Federal Claims No: 22-1311V

71. Kanta Sethi, Houston, Texas, Court of Federal Claims No: 22-1312V

72. Victor Minera, Los Angeles, California, Court of Federal Claims No: 22-1314V

73. Courtney Caswell, Greensboro, North Carolina, Court of Federal Claims No: 22-1315V

74. Susan Niles, Hamburg, New York, Court of Federal Claims No: 22-1316V

75. Howard W. Baker, Jr. on behalf of the Estate of Cecilia M. Baker, Deceased, Centreville, Alabama, Court of Federal Claims No: 22-1318V

76. Sarah Armstrong, Raleigh, North Carolina, Court of Federal Claims No: 22-1319V

77. Meredith Baker, Fort Worth, Texas, Court of Federal Claims No: 22-1321V

78. Pamela Andrews, Roseville, Michigan, Court of Federal Claims No: 22-1324V

79. Parker Eskew, Phoenix, Arizona, Court of Federal Claims No: 22-1325V

80. Nathan Young, New York, New York, Court of Federal Claims No: 22-1327V

81. Marcus Howard, Arlington, Washington, Court of Federal Claims No: 22-1329V

82. Juan M. Guzman, Sacramento, California, Court of Federal Claims No: 22-1330V

83. Gloria Darmanin, Saugerties, New York, Court of Federal Claims No: 22-1331V

84. Judith Kauffman, Baltimore, Maryland, Court of Federal Claims No: 22-1332V

85. Shane Barron, Scott Barron and Nicola Boughton on behalf of Ronald J. Barron, Deceased, Mt. Pleasant, Iowa, Court of Federal Claims No: 22-1336V

86. Marlene Million, Boston, Massachusetts, Court of Federal Claims No: 22-1337V

87. Michelle Beede, Taunton, Massachusetts, Court of Federal Claims No: 22-1338V

88. Robert Ohanian, Fresno, California, Court of Federal Claims No: 22-1341V

89. Debbie H. Savage, Cape Charles, Virginia, Court of Federal Claims No: 22-1342V

90. Annie Kruse, Englewood, New Jersey, Court of Federal Claims No: 22-1343V

91. Moises Zuniga, Paxton, Illinois, Court of Federal Claims No: 22-1345V

92. Kimberly Ruth Archer, Portsmouth, Virginia, Court of Federal Claims No: 22-1347V

93. Brian Shaw, Stanfield, Arizona, Court of Federal Claims No: 22-1348V

94. David Hunter, Wellesley, Massachusetts, Court of Federal Claims No: 22-1350V

95. Jayne Hager, Freehold, New Jersey, Court of Federal Claims No: 22-1352V

96. Vanessa Garris, Seattle, Washington, Court of Federal Claims No: 22-1354V

97. Jennifer Schwiebert, Napoleon, Ohio, Court of Federal Claims No: 22-1356V

98. Kathleen Kadlec, New Alexandria, Pennsylvania, Court of Federal Claims No: 22-1357V

99. Fernando Tapia, San Mateo, California, Court of Federal Claims No: 22-1358V

100. Adam Mudaj, New York City, New York, Court of Federal Claims No: 22-1359V

101. Rajender Tomar, South Lebanon, Ohio, Court of Federal Claims No: 22-1360V

102. Regina A. Disantis, Wethersfield, Connecticut, Court of Federal Claims No: 22-1361V

103. Drew Pearce, Phoenix, Arizona, Court of Federal Claims No: 22-1362V

104. Sarah Koyanagi, Bronx, New York, Court of Federal Claims No: 22-1363V

105. Joseph Frank and Paige Frank on behalf of P. F. Boston, Massachusetts, Court of Federal Claims No: 22-1364V

106. Kristina Jesso and Kenneth Jesso on behalf of H. J. Boston, Massachusetts, Court of Federal Claims No: 22-1365V

107. James Fenstermacher, Boston, Massachusetts, Court of Federal Claims No: 22-1366V

108. Vanya Chatty, Washington, District of Columbia, Court of Federal Claims No: 22-1369V

109. Juliana Owens on behalf of S. O., Phoenix, Arizona, Court of Federal Claims No: 22-1370V

110. Jennifer Knight on behalf of L. K., Phoenix, Arizona, Court of Federal Claims No: 22-1371V

111. Frederick Hamilton and Carla Hamilton on behalf of A. H., Phoenix, Arizona, Court of Federal Claims No: 22-1372V

112. Kathryn Ann Weeks, Zephyrhills, Florida, Court of Federal Claims No: 22-1373V

113. Lisa Sullivan, Meadowbrook, Pennsylvania, Court of Federal Claims No: 22-1374V

114. Daniela Morawick, Somerset, New Jersey, Court of Federal Claims No: 22-1375V

115. Jeffrey Ollman, Boston, Massachusetts, Court of Federal Claims No: 22-1376V

116. Nicole Brickhouse, Chester, Pennsylvania, Court of Federal Claims No: 22-1377V

117. Jacob W. Rogers, Boscobel, Wisconsin, Court of Federal Claims No: 22-1378V

118. Ryan Hess, Phoenix, Arizona, Court of Federal Claims No: 22-1381V

119. Mark Radke, Watkinsville, Georgia, Court of Federal Claims No: 22-1384V

120. David Walker, Chattanooga, Tennessee, Court of Federal Claims No: 22-1385V

121. Araceli Evers, Toms River, New Jersey, Court of Federal Claims No: 22-1387V

122. Deborah Carslile, Somers Point, New Jersey, Court of Federal Claims No: 22-1388V

123. Leroy Garrett, Redgranite, Wisconsin, Court of Federal Claims No: 22-1389V

124. William Eskew, Phoenix, Arizona, Court of Federal Claims No: 22-1391V

125. Stephen Harlow, Bloomfield Hills, Michigan, Court of Federal Claims No: 22-1392V

126. Stephanie Kreuze, Grandville, Michigan, Court of Federal Claims No: 22-1394V

127. Erin Merchant on behalf of A. M., Plymouth, Minnesota, Court of Federal Claims No: 22-1395V

128. Sherry Matthews, North Little Rock, Arkansas, Court of Federal Claims No: 22-1396V

129. Liane Wunderlich, Union, New Jersey, Court of Federal Claims No: 22-1397V

130. Constance Ricketson, Anderson, South Carolina, Court of Federal Claims No: 22-1398V

131. Travis Edens, Albuquerque, New Mexico, Court of Federal Claims No: 22-1399V

132. Keri McCarty, Beaverton, Oregon, Court of Federal Claims No: 22-1400V

133. Kimberly G. Raferty, Palo Alto, California, Court of Federal Claims No: 22-1401V

134. Joshua J. Jones, Fox Lake, Wisconsin, Court of Federal Claims No: 22-1402V

135. Thomas Mack, Los Angeles, California, Court of Federal Claims No: 22-1404V

136. Michael Roma, Cranston, Rhode Island, Court of Federal Claims No: 22-1406V

137. Annamma Varughese, Cooper City, Florida, Court of Federal Claims No: 22-1408V

138. Dianne Fitzgibbons, Groveland, Massachusetts, Court of Federal Claims No: 22-1409V

139. Gary Garner, Prince Frederick, Maryland, Court of Federal Claims No: 22-1410V

140. Michael Ringland, Bethesda, Maryland, Court of Federal Claims No: 22-1411V

141. Irene Perkin, Sault Ste. Marie, Michigan, Court of Federal Claims No: 22-1413V

142. Marguerite Taylor, South Bend, Indiana, Court of Federal Claims No: 22-1414V

143. Timothy Thomas, Greensboro, North Carolina, Court of Federal Claims No: 22-1416V

144. Hilary Bezona, Glastonbury, Connecticut, Court of Federal Claims No: 22-1417V

145. Annette Estes (Mace), Ellicott City, Maryland, Court of Federal Claims No: 22-1418V

146. Desare'a Michele Rosastri, Golden, Colorado, Court of Federal Claims No: 22-1420V

[FR Doc. 2022-23165 Filed 10-24-22; 8:45 am]

BILLING CODE 4165-15-P